DEPARTMENT OF HEALTH AND HUMAN SERVICES

National Institutes of Health

Office of the Director, National Institutes of Health; Notice of Meeting

Pursuant to section 10(d) of the Federal Advisory Committee Act, as amended (5 U.S.C. Appendix 2), notice is hereby given of the meeting of the Advisory Committee to the Director, National Institutes of Health (NIH).

The meeting will be open to the public as indicated below, with attendance limited to space available. Individuals who plan to attend and need special assistance, such as sign language interpretation or other reasonable accommodations, should notify the Contact Person listed below in advance of the meeting.

A portion of the meeting will be closed to the public in accordance with the provisions set forth in the Government in the Sunshine Act, sections 552b(c)(6) and 552b(c)(9)(B), Title 5 U.S.C., as amended, because the disclosure of which would constitute a clearly unwarranted invasion of personal property and the premature disclosure of information and the discussions are likely to significantly frustrate the implementation of the program.

Name of Committee: Advisory Committee to the Director, NIH.

Date: December 2-3, 2004.

Closed: December 2, 2004, 8:30 a.m. to 9:30 a.m.

Agenda: Confidential evaluation of program implementation.

Place: National Institutes of Health, 9000 Rockville Pike, Building 31, Conference Room 6, Bethesda, MD 20892.

Open: December 2, 2004, 9:30 a.m. to December 3, 2004, adjournment.

Agenda: Topics proposed for discussion include NIH Director's Report, Office of the Director updates, and workgroup updates.

Place: National Institutes of Health, 9000 Rockville Pike, Building 31, Conference Room 6, Bethesda, MD 20892.

Contact Person: Shelly Pollard, ACD Coordinator, National Institutes of Health, 9000 Rockville Pike, Building 31, Room 5B64, Bethesda, MD 20892, Phone: (301) 496-0959.

Any interested person may file written comments with the committee by forwarding the statement to the Contact Person listed on this notice. The comments should include the name, address, telephone number and, when applicable, the business or professional affiliation of the interested person.

In the interest of security, NIH has instituted stringent procedures for entrance into the building by nongovernment employees. Persons without a government I.D. will need to show a photo I.D. and sign in at the security desk upon entering the building.

Information is also available on: http://www.nih..gov/about/director/acd.htm, where an agenda and any additioanl information for the meeting will be posted when available.

Dated: November 10, 2004.
LaVerny Y. Stringfield,
Director, Office of Federal Advisory Committee Policy.

[FR Doc. 04-25576 Filed 11-17-04; 8:45 am]

BILLING CODE 4140-01-M